DEPARTMENT OF COMMERCE

Office of the Secretary

[Docket No.: 021018240-2240-01]

Privacy Act of 1974; System of Records

AGENCY: Office of Administration, Office of the Secretary, Department of Commerce.

ACTION: Notice.

SUMMARY: In accordance with the Privacy Act (5 U.S.C. 552a(e) (4) and (11)), the Department of Commerce is issuing notice of our intent to delete the system of records entitled “Agriculture Census Records for 1974 and 1978, Commerce/Census—1.” This system of records is no longer collected or maintained by the U.S. Census Bureau.

DATES: Effective Date: The deletion will become effective as proposed without further notice on December 2, 2002. Comment Date: To be considered, written comments must be submitted on or before December 2, 2002.

ADDRESSES: Comments may be mailed to Gerald W. Gates, Chief, Policy Office, U.S. Census Bureau, Washington, DC 20233.

SUPPLEMENTARY INFORMATION: This Privacy Act System of Records is being deleted because the records are no longer collected or maintained by the U.S. Census Bureau.

Dated: October 29, 2002.
Brenda Dolan,
Department of Commerce, Freedom of Information/Privacy Act Officer.

[FR Doc. 02-27817 Filed 10-31-02; 8:45 am]

BILLING CODE 3510-07-U